DEPARTMENT OF ENERGY

Federal Energy Regulatory Commission

Combined Notice of Filings #1

Take notice that the Commission received the following electric rate filings:

Docket Numbers: ER06-615-061; ER02-1656-038.

Applicants: California Independent System Operator Corporation.

Description: Compliance Filing in Response to June 3, 2014 Order of the California Independent System Operator Corporation.

Filed Date: 6/3/15.

Accession Number: 20150603-5191.

Comments Due: 5 p.m. ET 6/24/15.

Docket Numbers: ER12-2414-004.

Applicants: New York Independent System Operator, Inc..

Description: Compliance filing per 35: Amendment to compliance filing revision of BSM Rules to be effective 6/22/2012.

Filed Date: 6/3/15.

Accession Number: 20150603-5152.

Comments Due: 5 p.m. ET 6/24/15.

Docket Numbers: ER14-2952-004.

Applicants: Midcontinent Independent System Operator, Inc.

Description: Compliance filing per 35: 2015-06-03_SSR Cost Allocation Compliance Amendment to be effective 4/3/2014.

Filed Date: 6/3/15.

Accession Number: 20150603-5160.

Comments Due: 5 p.m. ET 6/24/15.

Docket Numbers: ER15-443-001.

Applicants: PacifiCorp.

Description: Compliance filing per 35: NAESB Standards Second Compliance Filing to be effective 5/15/2015.

Filed Date: 6/4/15.

Accession Number: 20150604-5112.

Comments Due: 5 p.m. ET 6/25/15.

Docket Numbers: ER15-1193-001.

Applicants: PJM Interconnection, L.L.C.

Description: Compliance filing per 35: PJM submits Compliance Filing per 5/5/15 Order in Docket No. ER15-1193 to be effective 5/1/2015.

Filed Date: 6/4/15.

Accession Number: 20150604-5135.

Comments Due: 5 p.m. ET 6/25/15.

Docket Numbers: ER15-1849-000.

Applicants: PJM Interconnection, L.L.C.

Description: Section 205(d) rate filing per 35.13(a)(2)(iii): Revisions to the OATT, OA and RAA re M&V for CSPs with Residential DR Customers to be effective 8/3/2015.

Filed Date: 6/4/15.

Accession Number: 20150604-5001.

Comments Due: 5 p.m. ET 6/25/15.

Docket Numbers: ER15-1850-000.

Applicants: Chief Conemaugh Power, LLC.

Description: Section 205(d) rate filing per 35.13(a)(2)(iii): Revisions to Reflect Montour Succession to be effective 6/5/2015.

Filed Date: 6/4/15.

Accession Number: 20150604-5056.

Comments Due: 5 p.m. ET 6/25/15.

Docket Numbers: ER15-1851-000.

Applicants: Chief Keystone Power, LLC.

Description: Section 205(d) rate filing per 35.13(a)(2)(iii): Revised Reactive Reflecting Montour Name Change to be effective 6/5/2015.

Filed Date: 6/4/15.

Accession Number: 20150604-5057.

Comments Due: 5 p.m. ET 6/25/15.

Docket Numbers: ER15-1852-000.

Applicants: Tucson Electric Power Company.

Description: Section 205(d) rate filing per 35.13(a)(2)(iii): Amendments to Rate Schedule No. 125 to be effective 11/2/2010.

Filed Date: 6/4/15.

Accession Number: 20150604-5079.

Comments Due: 5 p.m. ET 6/25/15.

Docket Numbers: ER15-1853-000.

Applicants: Midcontinent Independent System Operator, Inc.

Description: Section 205(d) rate filing per 35.13(a)(2)(iii): 2015-06-04_SA 2791 Ameren Illinois-FutureGen GIA (J239) to be effective 8/4/2015.

Filed Date: 6/4/15.

Accession Number: 20150604-5107.

Comments Due: 5 p.m. ET 6/25/15.

Docket Numbers: ER15-1854-000.

Applicants: PJM Interconnection, L.L.C.

Description: Section 205(d) rate filing per 35.13(a)(2)(iii): First Revised Service Agreement 3417; Queue W3-159 to be effective 5/11/2015.

Filed Date: 6/4/15.

Accession Number: 20150604-5109.

Comments Due: 5 p.m. ET 6/25/15.

Docket Numbers: ER15-1855-000.

Applicants: Louisville Gas and Electric Company.

Description: Section 205(d) rate filing per 35.13(a)(2)(iii): Benham NITSA SA No. 17 to be effective 6/1/2015.

Filed Date: 6/4/15.

Accession Number: 20150604-5111.

Comments Due: 5 p.m. ET 6/25/15.

Docket Numbers: ER15-1856-000.

Applicants: Montour, LLC.

Description: Compliance filing per 35: Notice of Succession & Certificate of Concurrence—Keystone to be effective 6/4/2015.

Filed Date: 6/4/15.

Accession Number: 20150604-5132.

Comments Due: 5 p.m. ET 6/25/15.

Docket Numbers: ER15-1857-000.

Applicants: Montour, LLC.

Description: Compliance filing per 35: Notice of Succession & Certificate of Concurrence—Conemaugh to be effective 6/4/2015.

Filed Date: 6/4/15.

Accession Number: 20150604-5136.

Comments Due: 5 p.m. ET 6/25/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 4, 2015.
Nathaniel J. Davis, Sr.,
Deputy Secretary.

[FR Doc. 2015-14160 Filed 6-9-15; 8:45 am]

BILLING CODE 6717-01-P